DEPARTMENT OF COMMERCE

Foreign-Trade Zones Board

[B-79-2015]

Authorization of Production Activity; Foreign-Trade Subzone 38A; BMW Manufacturing Co., LLC; (Motor Vehicle Body Parts and Lithium-Ion Batteries); Spartanburg, South Carolina

On October 27, 2015, BMW Manufacturing Company, LLC, operator of Subzone 38A, submitted a notification of proposed production activity to the Foreign-Trade Zones (FTZ) Board for its facility in Spartanburg, South Carolina.

The notification was processed in accordance with the regulations of the FTZ Board (15 CFR part 400), including notice in the Federal Register inviting public comment (80 FR 72948, November 23, 2015). The FTZ Board has determined that no further review of the activity is warranted at this time. The production activity described in the notification is authorized, subject to the FTZ Act and the FTZ Board's regulations, including Section 400.14, and further subject to a restriction requiring that foreign status textile-based polyester fleece vent pads (classified within HTSUS Subheading 5911.90) be admitted to the zone in privileged foreign status (19 CFR 146.41).

Dated: March 1, 2016.
Andrew McGilvray,
Executive Secretary.

[FR Doc. 2016-05012 Filed 3-4-16; 8:45 am]

BILLING CODE 3510-DS-P